DEPARTMENT OF HEALTH AND HUMAN SERVICES

Health Resources and Services Administration

Opportunity for Comments on Proposed Updates to the Bright Futures Periodicity Schedule as Part of the HRSA-Supported Preventive Services Guidelines for Infants, Children, and Adolescents

AGENCY: Health Resources and Services Administration (HRSA), Department of Health and Human Services.

ACTION: Notice.

SUMMARY: This notice seeks public comment on several proposed updates to The Periodicity Schedule of the Bright Futures Recommendations for Pediatric Preventive Health Care (“Bright Futures Periodicity Schedule”), as part of the HRSA-supported preventive service guidelines for infants, children, and adolescents. Please see https://mchb.hrsa.gov/maternal-child-health-topics/child-health/bright-futures.html for additional information. The Periodicity Schedule is maintained in part through a national cooperative agreement, the Bright Futures Pediatric Implementation Program. If accepted by HRSA, a proposed update to the Bright Futures Periodicity Schedule will provide additional clinical guidance to providers and, under the Public Health Service Act, would require certain insurance plans and issuers to provide coverage without cost-sharing of such updated preventive care and screenings.

DATES: Members of the public are invited to provide written comments no later than October 13, 2021. All comments received on or before this date will be reviewed and considered by the Bright Futures Periodicity Schedule Workgroup and provided for further consideration by HRSA in determining the recommended updates that it will support.

ADDRESSES: Members of the public who wish to provide comments can do so by accessing the public comment web page at: https://mchb.hrsa.gov/maternal-child-health-topics/child-health/bright-futures.html.

FOR FURTHER INFORMATION CONTACT: Savannah Kidd, HRSA, Maternal and Child Health Bureau, email: SKidd@hrsa.gov, telephone: (301) 287-2601.

SUPPLEMENTARY INFORMATION: The Periodicity Schedule of the Bright Futures Recommendations for Pediatric Preventive Health Care (“Bright Futures Periodicity Schedule”), as part of the HRSA-supported preventive service guidelines for infants, children, and adolescents, is maintained in part through a national cooperative agreement, the Bright Futures Pediatric Implementation Program. Under Section 2713 of the Public Health Service Act, non-grandfathered group health plans and health insurance issuers must include coverage, without cost sharing, for certain preventive services for plan years (in the individual market, policy years) that begin on or after the date that is 1-year after the date the recommendation or guideline is issued. These include preventive health services provided for in the Bright Futures Periodicity Schedule as part of the HRSA-supported preventive services guidelines for infants, children, and adolescents. A panel of pediatric primary care experts convened to review the latest evidence has identified proposed updates to the Bright Futures Periodicity Schedule in several areas in response to new evidence impacting children. The proposed updates to the Bright Futures Periodicity Schedule are: (1) A new category for sudden cardiac arrest and sudden cardiac death risk assessment, (2) a new category for hepatitis B virus infection risk assessment, (3) add suicide risk as an element of universal screening for children ages 12-21, and (4) update of Psychosocial/Behavioral Assessment to Behavioral/Social/Emotional Screening. The updated category title will be “Behavioral/Social/Emotional Screening” with no revision to the ages in which the screening occurs (newborn to 21 years). Finally, two references related to dental fluoride varnish and fluoride supplementation are proposed to be added with no recommended changes to clinical practice.

The American Academy of Pediatrics, which has been the HRSA cooperative agreement recipient for this program since 2007, maintains the Periodicity Schedule. Under HRSA's cooperative agreement with the American Academy of Pediatrics, the Bright Futures Program is required to administer a process for developing and regularly recommending, as needed, updates to the Bright Futures Periodicity Schedule. As described in the Notice of Funding Opportunity for the Bright Futures Program (HRSA-18-078), the consideration of potential updates is expected to be “a comprehensive, objective, and transparent review of available evidence that incorporates opportunity for public comment. Accordingly, the award recipient will review the evidence on an annual basis to determine whether updates are needed, using a deliberative review process by experts qualified to conduct such a review; administer the receipt and consideration of public comments for a minimum of 30 calendar days following publication of the Federal Register Notice setting forth the proposed updates; and provide to HRSA a written report that sets forth its recommended updates, including a summary of the public comments it received, a list of general topics that were commented on and its responses to those comments.”

Authority: 2713(a)(3) of the Public Health Service Act, 42 U.S.C. 300gg-13(a)(3).

Diana Espinosa,
Acting Administrator.

[FR Doc. 2021-19630 Filed 9-10-21; 8:45 am]

BILLING CODE 4165-15-P